DEPARTMENT OF HEALTH AND HUMAN SERVICES

Centers for Disease Control and Prevention

Disease, Disability, and Injury Prevention and Control Special Emphasis Panel: Racial and Ethnic Approaches to Community Health Across the United States (REACH US), Request for Applications (RFA) DP07-707

In accordance with section 10(a)(2) of the Federal Advisory Committee Act (Public Law 92-463), the Centers for Disease Control and Prevention (CDC) announces a meeting of the aforementioned Special Emphasis Panel.

Times and Dates: 3 p.m.-8 p.m., July 31, 2007 (Closed), 8 a.m.-5 p.m., August 1, 2007 (Closed), 8 a.m.-5 p.m., August 2, 2007 (Closed), 3 p.m.-8 p.m., August 6, 2007 (Closed), 8 a.m.-5 p.m., August 7, 2007 (Closed), 8 a.m.-5 p.m., August 8, 2007 (Closed), 8 a.m.-5 p.m., August 9, 2007 (Closed).

Place: Sheraton Gateway Hotel Atlanta Airport, 1900 Sullivan Road, Atlanta, GA 30337, Telephone (800) 454-6835.

Status: The meeting will be closed to the public in accordance with provisions set forth in section 552b(c)(4) and (6), Title 5 U.S.C., and the Determination of the Director, Management Analysis and Services Office, CDC, pursuant to Pub. L. 92-463.

Matters To Be Discussed: The meeting will include the review, discussion, and evaluation of research grant applications in response to RFA DP07-707, “Racial and Ethnic Approaches to Community Health Across the United States (REACH US).”

For Further Information Contact: Thijuanie Lockhart, Program & Management Analyst, CDC, 4770 Buford Highway, NE., Mail Stop K-30, Atlanta, GA 30341, Telephone (404) 488-5303.

The Director, Management Analysis and Services Office, has been delegated the authority to sign Federal Register notices pertaining to announcements of meetings and other committee management activities, for both CDC and the Agency for Toxic Substances and Disease Registry.

Dated: July 9, 2007.
Elaine L. Baker,
Acting Director, Management Analysis and Services Office, Centers for Disease Control and Prevention.

[FR Doc. E7-13602 Filed 7-12-07; 8:45 am]

BILLING CODE 4163-18-P